FEDERAL COMMUNICATIONS COMMISSION

47 CFR Parts 1 and 27

[WT Docket No. 18-120; DA 18-647]

Transforming the 2.5 GHz Band

AGENCY: Federal Communications Commission.

ACTION: Proposed rule; extension of comment period.

SUMMARY: On June 21, 2018, the Federal Communications Commission (Commission or FCC) extended the comment period on the Notice of Proposed Rulemaking (NPRM) to seek comments on proposed service rules that allow more efficient and effective use of 2.5 GHz band. The Commission has extended the comment period by 30 days to serve the public interest by providing interested parties additional time to develop more full and complete responses to the 2.5 GHz NPRM.

DATES: The comment period for the NPRM published June 7, 2018 (83 FR 26396) is extended. Comments are due on or before August 8, 2018; reply comments are due on or before September 7, 2018.

ADDRESSES: You may submit comments, identified by WT Docket No. 18-120, by any of the following methods:

• Federal eRulemaking Portal: http://www.regulations.gov. Follow the instructions for submitting comments.

• Federal Communications Commission's Website: https://www.fcc.gov/ecfs/. Follow the instructions for submitting comments.

People with Disabilities: Contact the FCC to request reasonable accommodations (accessible format documents, sign language interpreters, CART, etc.) by email: FCC504@fcc.gov, phone: 202-418-0530 or TTY: 202-418-0432.

For detailed instructions for submitting comments and additional information on the rulemaking process, see the SUPPLEMENTARY INFORMATION section of this document.

FOR FURTHER INFORMATION CONTACT: For further information contact John J. Schauble of the Wireless Telecommunications Bureau, Broadband Division, at 202-418-0797 or by email to John.Schauble@fcc.gov.

SUPPLEMENTARY INFORMATION: This is a summary of the Commission's Order, WT Docket No. 18-120 DA 18-647, adopted on June 21, 2018 and released on June 21, 2018. The complete text of this document is available for public inspection and copying from 8 a.m. to 4:30 p.m. Eastern Time (ET) Monday through Thursday or from 8 a.m. to 11:30 a.m. ET on Fridays in the FCC Reference Information Center, 445 12th Street SW, Room CY-A257, Washington, DC 20554. The complete text is available on the Commission's website at https://www.fcc.gov/edocs/search-results?t=advanced&daNo=18-647. Alternative formats are available to persons with disabilities by sending an email to fcc504@fcc.gov or by calling the Consumer & Governmental Affairs Bureau at (202) 418-0530 (voice), (202) 418-0432 (tty).

Comment Filing Procedures

Pursuant to sections 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the internet by accessing the ECFS: https://www.fcc.gov/ecfs/filings. Filers should follow the instructions provided on the website for submitting comments. In completing the transmittal screen, filers should include their full name, U.S. Postal Service mailing address, and the applicable docket number, WT Docket No. 18-120.

• Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9050 Junction Dr., Annapolis Junction, Annapolis MD 20701.

• U.S. Postal Service first-class, Express, and Priority mail must be addressed to 445 12th Street SW, Washington DC 20554.

People with Disabilities: To request materials in accessible formats for people with disabilities (Braille, large print, electronic files, audio format), send an email to fcc504@fcc.gov or call the Consumer & Governmental Affairs Bureau at 202-418-0530 (voice), 888-835-5322 (tty).

I. Background

1. By this Order, the Wireless Telecommunications Bureau grants, in part, two separate requests to extend the deadlines for comments and reply comments in the above-captioned rulemaking proceeding.

2. On May 10, 2018, the Commission released a Notice of Proposed Rulemaking proposing to allow more efficient and effective use of the 2.5 GHz band by providing greater flexibility to current Educational Broadband Service (EBS) licensees as well as providing new opportunities for additional entities to obtain unused 2.5 GHz spectrum to facilitate improved access to next generation wireless broadband, including 5G. On June 7, 2018, the summary of the 2.5 GHz NPRM was published in the Federal Register, which established a comment deadline of July 9, 2018, and a reply comment deadline of August 6, 2018.

3. The National EBS Association and the Catholic Technology Network (NEBSA/CTN) have jointly requested an extension of time for the filing of comments in the proceeding. They request that the filing dates in this proceeding be extended to August 23, 2018, for comments, and September 20, 2018, for reply comments. NEBSA and CTN welcome the Commission's decision to open the proceeding to license unassigned spectrum and note that the 2.5 GHz NPRM also “raises a host of other very significant issues about nearly all aspects of the EBS band.” They argue, “By extending the comment cycle for an additional 45 days, the Commission can ensure that the EBS community has an adequate opportunity to evaluate and respond to the important issues raised in the” 2.5 GHz NPRM.

4. The Joint Stakeholders have also requested an extension of time for the filing of comments in the proceeding. They request that the filing dates in this proceeding be extended for 60 days. The Joint Stakeholders welcome the “Commission's decision to initiate this rulemaking, which has the potential to (1) expand educational broadband benefits to more students, schools, and families; (2) foster broadband deployment in rural areas, including on tribal lands, many of which have limited or no service today; and (3) accelerate the deployment of 5G wireless networks to more Americans. They argue that the “issues raised by the NPRM are as complex as they are important” and that “complex geospatial analysis is required . . .” In addition, they allege that this proceeding is not routine, and that the current timing falls during the summer which is particularly difficult for schools and educators.

5. As set forth in section 1.46 of the Commission's rules, the Commission's policy is that extensions of time for filing comments in rulemaking proceedings shall not be routinely granted. In this case, however, the Commission finds that the number, scope, and importance of the questions asked in the 2.5 GHz NPRM warrant a partial extension of the comment and reply comment deadlines. While NEBSA and CTN seek an extension of 45 days, and the Joint Stakeholders seek an extension of 60 days, the Commission believes that an extension of 30 days will adequately serve the public interest by providing interested parties additional time to develop more full and complete responses to the 2.5 GHz NPRM and promote a more comprehensive record, without resulting in undue delay. Thus, comments are now due August 8, 2018 and reply comments due by September 7, 2018.

6. Accordingly, It is ordered that, pursuant to Section 4(i) of the Communications Act of 1934, as amended, 47 U.S.C. 154(i), and Section 1.46 of the Commission's rules, 47 CFR 1.46, the motions for extension of time filed NEBSA/CTN and the Joint Stakeholders are granted in part, and otherwise denied. The deadline for filing comments in this proceeding is extended to August 8, 2018, and the deadline for filing reply comments is extended to September 7, 2018.

Federal Communications Commission.
John Schauble,
Deputy Chief, Broadband Division, Wireless Telecommunications Bureau.

[FR Doc. 2018-14460 Filed 7-5-18; 8:45 am]

BILLING CODE 6712-01-P